DEPARTMENT OF TRANSPORTATION

Office of the Secretary

49 CFR Part 1

RIN 9991-AA35

[OST Docket No. OST-1999-6189]

Organization and Delegation of Powers and Duties; Delegation to the Administrator, Maritime Administration

AGENCY: Office of the Secretary, DOT.

ACTION: Final rule.

SUMMARY: The Secretary of Transportation (Secretary) delegates to the Maritime Administrator the authority to implement section 109 of the Maritime Transportation Security Act of 2002, which requires the Secretary, not later than 6 months after the date of enactment, to develop standards and curriculum to allow for the training and certification of maritime security professionals. Training opportunities provided under section 109 may be available to any Federal, State, local, and private law enforcement or maritime security personnel in the United States or to personnel employed in foreign ports used by a vessel with United States citizens as passengers or crewmembers. An annual report is to be submitted to the Senate Committee on Commerce, Science and Transportation, and the House of Representatives Committee on Transportation and Infrastructure on the expenditure of appropriated funds and the training under this section. The Maritime Administrator may further redelegate this authority.

EFFECTIVE DATE: This rule is effective on April 3, 2003.

FOR FURTHER INFORMATION CONTACT: Christine Gurland, Office of the Chief Counsel, MAR-225, (202) 366-5724, Department of Transportation, Maritime Administration, 400 Seventh Street, SW., Washington, DC 20590. Linda Lasley, Office of the General Counsel, (202) 366-9314, Department of Transportation, 400 Seventh Street, SW., Washington, DC 20590.

SUPPLEMENTARY INFORMATION:

Electronic Access

You can view and download this document by going to the webpage of the Department's Docket Management System (http://dms.dot.gov/). On that page, click on “search.” On the next page, type in the last four digits of the docket number shown on the first page of this document. Then click on “search.” You may also download an electronic copy of this document by using a computer, modem, and suitable communications software from the Government Printing Office's Electronic Bulletin Board Service at (202) 512-1661. Internet users may reach the Office of the Federal Register's home page at: http://www.nara.gov/fedreg and the Government Printing Office's database at: http://www.access.gpo.gov/nara.

Background

The Secretary is delegating to the Maritime Administrator the authority under section 109 of the Maritime Transportation Security Act of 2002, Public Law 107-295, 116 Stat. 2064, at 2090 to develop standards and curriculum to allow for the training and certification of maritime security professionals. The Maritime Administration (MARAD) has the expertise and staff to develop and implement a program for the training and certification of maritime security professionals within its area of responsibility and to make funding decisions in accordance with the statutory requirements. The standards for training and certification established shall include training and certification of maritime security professionals in accordance with accepted law enforcement and security guidelines, policies, and procedures; training of students and instructors in all aspects of prevention, detection, investigation, and reporting of criminal activities in the international maritime environment; and the provision of off-site training and certification courses and certified personnel at United States and foreign ports used by U. S.-flagged vessels, or by foreign-flagged vessels with U.S. citizens as passengers or crew members, to develop and enhance security awareness and practices. MARAD may make the training opportunities provided under this section available to any Federal, State, local, and private law enforcement or maritime security personnel in the United States or to personnel employed in foreign ports used by vessels with United States citizens as passengers or crewmembers.

Since this amendment relates to Departmental organization, procedure, and practice, notice and comment on it are unnecessary under 5 U.S.C. 553(b). Efficient execution of section 109 is instrumental to the timely development and implementation of training for maritime security professionals. Thus, the Secretary finds good cause under 5 U.S.C. 553(d)(3) for this final rule to be effective on the date of publication in the Federal Register.

Regulatory Evaluation

Regulatory Assessment

This rulemaking is a non-significant regulatory action under section 3(f) of Executive Order 12866 and has not been reviewed by the Office of Management and Budget under that Order. This rule is also not significant under the regulatory policies and procedures of the Department of Transportation, 44 FR 11034.

This rule does not impose unfunded mandates or requirements that will have any impact on the quality of the human environment.

Collection of Information

This rule calls for no new collection of information under the Paperwork Reduction Act of 1995 (44 U.S.C. 3501-3520).

Federalism Assessment

This proposed rule has been reviewed in accordance with the principles and criteria contained in Executive Order 13132 dated August 4, 1999, and it is determined that this action does not have a substantial direct effect on the States, or a relationship between the national government and the States, or on the distribution of power and responsibilities among the various levels of government. This rule will not limit the policymaking discretion of the States nor preempt any State law or regulation.

List of Subjects in 49 CFR Part 1

Authority delegations (Government agencies), Organization and functions (Government agencies).

In consideration of the foregoing, Part 1 of Title 49, Code of Federal Regulations, is amended, effective upon publication, to read as follows:

PART 1—[AMENDED]

1. The authority citation for part 1 continues to read as follows:

Authority: Pub. L. 107-295.

2. In § 1.66, add paragraph (ff) to read as follows:

§ 1.66 Delegations to Maritime Administrator.

* * * * *

(ff) Carry out the functions and exercise the authority vested in the Secretary by section 109 of the Maritime Transportation Security Act of 2002, Public Law 107-295, 116 Stat. 2064, provide training for maritime security professionals. This authority may be redelegated.

Issued on: March 26, 2003.
Norman Y. Mineta,
Secretary of Transportation.

[FR Doc. 03-8132 Filed 4-2-03; 8:45 am]

BILLING CODE 4910-62-P